DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Date and Time: June 14, 2011, 1 p.m.-4 p.m. Eastern Time; June 15, 2011, 9 a.m.-Noon Eastern Time.

Place: Webinar format.

Status: The meeting will be open to the public.

Purpose: The Council on Graduate Medical Education (COGME) was authorized by Congress in 1986 to provide an ongoing assessment of physician workforce trends, training issues, and financing policies, and to recommend appropriate Federal and private sector efforts to address identified needs. The legislation calls for COGME to advise and make recommendations to the Secretary of the U.S. Department of Health and Human Services (HHS), the Senate Committee on Health, Education, Labor and Pensions, and the House of Representatives Committee on Energy and Commerce. The topic of discussion for this meeting is graduate medical education (GME) financing in a time of fiscal restraint.

Agenda: The meeting on Tuesday, June 14 will begin with opening remarks from the Chair of COGME and welcoming comments from senior management of the Health Resources and Services Administration. COGME will hear presentations by speakers on various aspects of the topic of GME financing in a time of reduced financial resources. The presentations will be followed by an opportunity for members to ask questions and make comment. Discussion will focus on the development of recommendations for a report to the Secretary and Congress. The meeting on Tuesday, June 14 will also include an election to fill the now vacant position of Vice Chair. Additional presentations will be held on Wednesday, June 15, followed by the development of plans for the completion of a COGME report on GME financing. The public will have an opportunity to provide oral comments at the end of each day's agenda. Agenda items are subject to change as priorities dictate.

SUPPLEMENTARY INFORMATION: For members of the public interested in participating in the webinar, please contact LT Cindy Eugene by e-mail at ceugene@hrsa.gov. Requests to attend can be made up to two days prior to the meeting. Participants will receive an e-mail response containing the link to the webinar. Requests to provide written comments should be sent to LT Cindy Eugene by e-mail.

FOR FURTHER INFORMATION CONTACT: Anyone interested in obtaining a roster of members or other relevant information should write or contact Jerilyn K. Glass, M.D., PhD, COGME Deputy Executive Secretary, Division of Medicine and Dentistry, Bureau of Health Professions, Health Resources and Services Administration, Room 9A-27, Parklawn Building, 5600 Fishers Lane, Rockville, Maryland 20857, Telephone (301) 443-7271. The Web address for information on COGME and the June 14-15, 2011 meeting is http://www.cogme.gov.

Dated: May 23, 2011.
Jennifer Riggle,
Deputy Director, Office of Management.

[FR Doc. 2011-13199 Filed 5-26-11; 8:45 am]

BILLING CODE 4165-15-P